DEPARTMENT OF THE INTERIOR

Minerals Management Service

Environmental Documents Prepared for Proposed Oil and Gas Operations on the Gulf of Mexico Outer Continental Shelf (OCS)

AGENCY: Minerals Management Service, Interior.

ACTION: Notice of the availability of environmental documents prepared for OCS mineral proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Manta Ray Gathering Company, LLC, Pipeline and Platform Right-of-Way Application, SEA Nos. P-13972, P-13987, P-14077 and P-14096 | Segment 14077 from Ship Shoal, Block 332, to Garden Banks, Block 72; segment 14096 from Garden Banks, Block 72, to High Island, Block A-5; segment 13972 from High Island, Block A-5 to Block 97 and then to shore; segment 13987 from High Island, Block A-5 to Block 21 and then to shore; located south of Texas and Louisiana going to shore in Texas | 06/27/03
Newfield Exploration Company, Initial Exploration Plan, SEA No. N-7804 | DeSoto Canyon, Blocks 47 and 48, Leases OCS-G 10439 and OCS-G 10440, located 76 miles from the nearest Louisiana shoreline | 07/23/03
Murphy Exploration & Production Company, Initial Development Operations Coordination Plan, SEA No. N-7617 | Green Canyon, Block 338, Lease OCG G-21790, located 96 miles from the nearest Louisiana shoreline | 07/30/03
LLOG Exploration Offshore, Inc., Initial Development Operations Coordination Plan, SEA No. N-7758 and P-14205 | High Island, Block A-367, Lease OCS-G 23222, located 124 miles from the nearest Texas shoreline | 08/13/03
W&T Offshore, Inc., Right-of-Way Pipeline, SEA No. P-14037 | Garden Banks, Block 139, Lease OCS-G 17295 to High Island, Block A-389, Lease OCS-G 02759, located 123 miles from the nearest shoreline | 08/26/03
Chevron U.S.A., Inc., Initial Development Operations Coordination Plan, SEA No. N-7825 | Viosca Knoll, Block 383, Lease OCS-G 21721, located 40 miles south of Mobile County, Alabama | 09/18/03
Kerr McGee Corporation, Initial Exploration Plan, SEA No. N-7710 | DeSoto Canyon, Blocks 226 and 270, Leases OCS-G 23499 and OCS-G 23503, located 85 miles from the nearest Louisiana shoreline | 09/23/03
Anadarko Petroleum, Initial Exploration Plan, SEA No. N-7753 | Green Canyon, Block 608, Lease OCS-G 18402, located 119 miles from the nearest Louisiana shoreline | 09/25/03
Western Geco, Geological & Geophysical Exploration Plan, SEA No. L03-42 | Located in the central Gulf of Mexico, south of Cocodrie, Louisiana | 07/24/03
Kerr-McGee Oil & Gas Corporation, Geological & Geophysical Exploration Plan, SEA No. L03-49 | Located in the central and western Gulf of Mexico south of Fourchon, Louisiana | 08/28/03
Veritas DGC Corporation, Geological & Geophysical Exploration Plan, SEA Nos. L03-53, L03-54 and L03-55 | Located in the central Gulf of Mexico, south of Fourchon, Louisiana | 09/04/03
Unocal, Structure Removal Activity, SEA ES/SR No. 87-04A | South Marsh Island, Block 11, Lease OCS-G-01182, located 32 miles south-southwest of the nearest Louisiana shoreline | 06/20/03
Samedan Oil Corporation, Structure Removal Activity, SEA ES/SR Nos. 03-139 through 03-144, 89-77A | Eugene Island, Block 38, Lease OCS-G 02894, located 5 miles from the nearest Louisiana shoreline | 07/08/03
Shell Offshore, Inc., Structure Removal Activity, SEA ES/SR No. 03-146 | Eugene Island, Block 176, Lease OCS-G 00445, located 43 miles southwest from the nearest Louisiana shoreline | 07/24/03
Devon Energy Production Company, L.P., Structure Removal Activity, SEA ES/SR Nos. 03-147 and 03-148 | South Marsh Island North Addition, Block 265, Leases OCS-G 02890, 17 miles south-southwest from the nearest Louisiana shoreline | 07/24/03
El Paso Production Oil & Gas Company, Structure Removal Activity, SEA ES/SR Nos. 03-145, 03-149, 03-150, 03-151, 03-152 and 03-153 | Vermilion, Block 251; Main Pass (South & East Addition) Block 217; West Cameron (West Addition), Block 431; West Delta, Block 60 and South Timbalier, Block 86; Leases OCS-G 02873, 14580, 10584, 15362 and 14520, respectively; located 60 miles south-southwest, 68 miles southwest, 11 miles southwest, 52 miles southeast and 21 miles south-southeast of the nearest Louisiana shoreline | 07/24/03
J.M. Huber Corporation, Structure Removal Activity, SEA ES/SR Nos. 03-154, 03-155 and 03-156 | Vermilion, Block 104, Lease OCS-G 039810, located 30 miles from the nearest Louisiana shoreline | 07/24/03
Apache Corporation, Structure Removal Activity, SEA ES/SR Nos. 03-157 and 03-158 | Vermilion, Block 178, Lease OCS-G 11871, located 47 to 56 miles from the nearest Louisiana shoreline | 08/01/03
Apache Corporation, Structure Removal Activity, SEA ES/SR No. 03-159 | West Cameron, Block 275, Lease OCS-G 04761, located 60 miles from the nearest Louisiana shoreline | 08/01/03
Shell Offshore, Inc., Structure Removal Activity, SEA ES/SR No. 03-160 | Brazos, Block A20, Lease OCS-G 03472, located 24 miles from the nearest Texas shoreline | 08/01/03
Murphy Exploration & Production Company, Structure Removal Activity, SEA ES/SR No. 03-162 | West Cameron (South Addition), Block 631, Lease OCS-G 15120, located 181 miles west-southwest from the nearest Louisiana shoreline | 07/31/03
Westport Resources Corporation, Structure Removal Activity, SEA ES/SR No. 03-163 | West Cameron, Block 181, Lease OCS-G 01971, located 27 miles south-southwest from the nearest Louisiana shoreline | 08/01/03
Murphy Exploration and Production Company, Structure Removal Activity, SEA ES/SR No. 03-164 | South Timbalier, Block 86, Lease OCS-00605, located 20 miles from the nearest Louisiana shoreline | 09/09/03
Taylor Energy Company, Structure Removal Activity, SEA ES/SR No. 03-165 | Vermilion, Block 191, Lease OCS-G 01134, located 45 miles south-southwest from the nearest Louisiana shoreline | 08/08/03
Water Oil & Gas Corporation, Structure Removal Activity, SEA ES/SR No. 92-044A | West Delta, Block 35, Lease OCS-G 13641, located 11 miles from the nearest Louisiana shoreline | 08/28/03
Apache Oil Corporation, Structure Removal Activity, SEA ES/SR No. 03-166 | Eugene Island (South), Block 274, Lease OCS-G 07738, located 60 miles from the nearest Louisiana shoreline | 08/25/03
Walter Oil & Gas Corporation, Structure Removal Activity, SEA ES/SR No. 03-167 | Grand Isle, Block 63, Lease OCS-G 14555, located 20 miles from the nearest Louisiana shoreline | 09/15/03
Murphy Exploration and Production Company, Structure Removal Activity, SEA ES/SR No. 03-168 through 03-170 | South Pelto, Blocks 12 and 19, Leases OCS-00072 and 00073, located 5 to 10 miles from the nearest Louisiana shoreline | 09/03/03
Millennium Offshore Group, Inc., Structure Removal Activity, SEA ES/SR No. 03-171 | West Cameron (South Addition), Block 521, Lease OCS-G 15107, located 92 miles south-southeast from the nearest Texas shoreline | 08/21/03
BP America Production Company, Structure Removal Activity, SEA ES/SR No. 03-172 | East Cameron, Block 60, Lease OCS-G 05359, located 17 miles south-southwest from the nearest Louisiana shoreline | 09/09/03
Murphy Exploration & Production Company, Structure Removal Activity, SEA ES/SR No. 03-173 and 03-174 | South Pelto, Block 19, Lease OCS-00073, located 10 miles south of the nearest Louisiana shoreline | 09/03/03
Murphy Exploration & Production Company, Structure Removal Activity, SEA ES/SR No. 03-175 | Eugene Island (South), Block 335, Lease OCS-G 17996, located 80 miles from the nearest Louisiana shoreline | 09/15/03
El Paso Production Company, Structure Removal Activity, SEA ES/SR No. 03-176 | West Cameron, Block 114, Lease OCS-G 17762, located 18 miles south of the nearest Louisiana shoreline | 09/09/03
TGS-NOPEC Geophysical Company, Geological & Geophysical Exploration Plan, SEA No. L03-56 | Located in the central and western Gulf of Mexico, east of Galveston, Texas | 09/16/03
Chevron Texaco, Structure Removal Activity, SEA ES/SR No. 03-177 and 03-178 | Main Pass, Block 42, Lease OCS-G 00375, located 9 miles from the nearest Louisiana shoreline | 09/23/03
Coastal Planning & Engineering, Inc. for Collier County, Florida, Geological & Geophysical Exploration Plan, SEA No. M03-02 | Located in the eastern Gulf of Mexico east of the 88th meridian | 07/03/02
Coastal Planning & Engineering, Inc. for Collier County, Florida, Geological & Geophysical Exploration Plan, SEA No. M03-03 | Located in the eastern Gulf of Mexico east of the 88th meridian | 07/15/03

Persons interested in reviewing environmental documents for the proposals listed above or obtaining information about SEAs and FONSIs prepared for activities on the Gulf of Mexico OCS are encouraged to contact MMS at the address or telephone listed in the FOR FURTHER INFORMATION section.

Dated: October 17, 2003.
Chris C. Oynes,
Regional Director, Gulf of Mexico OCS Region.

[FR Doc. 03-27279 Filed 10-28-03; 8:45 am]

BILLING CODE 4310-MR-P